DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App. 2, the United States Department of Agriculture announces a meeting of the National Agricultural Research, Extension, Education, and Economics Advisory Board. The meeting is open to the general public.

DATES: The National Agricultural Research, Extension, Education, and Economics Advisory Board will meet October 29-31, 2007 at the Double Tree Hotel, 1515 Rhode Island Avenue, NW., Washington, DC 20024.

ADDRESSES: The public may file written comments before or up to two weeks after the meeting with the contact person. You may submit comments by any of the following methods: E-mail: JADunn@csrees.usda.gov; Fax: (202) 720-6199; Mail/Hand-Delivery or Courier: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Joseph Dunn, Executive Director or Shirley Morgan-Jordan, Program Support Coordinator, National Agricultural Research, Extension, Education, and Economics Advisory Board; telephone: (202) 720-3684.

SUPPLEMENTARY INFORMATION: On Monday, October 29, 2007, at 9 a.m. an Orientation Session for new members and interested incumbent members will be held. The full Advisory Board Meeting will convene at 12:15 p.m. with introductory remarks provided by the Acting Chair of the Advisory Board. There will be brief introductions by new Board members, incumbents, and guests followed by general Advisory Board Business. There will be remarks from a variety of distinguished leaders and experts in the field of agriculture, as well as officials and/or designated experts from the four agencies of USDA's Research, Education, and Economics Mission area. Speakers will provide recommendations regarding ways the USDA can enhance its research, extension, education, and economic programs to protect our Nation's food, fiber, fuel and agricultural system. The Honorable (Acting) Secretary of Agriculture, Chuck Conner, will attend the meeting and provide brief remarks. The meeting will adjourn for the day at 5 p.m. Following adjournment, an evening program will be held from 6 p.m. to 8 p.m. with guest speaker Dr. Robert Brackett, Director of the U.S. Food and Drug Administration's Center for Food Safety & Applied Nutrition, who will present highlights concerning Food Safety. On Tuesday, October 30, 2007, the meeting will reconvene at 7:30 a.m. with introductory remarks from Dr. Gale Buchanan, Under Secretary of the Research, Education and Economics Mission Area. Various presentations and discussions will take place throughout the day on the two Focus Topics, “Organic Agriculture” and “Rural Economic and Community Development and Priorities for Cooperative Extension”. The meeting will adjourn for the day by 5:15 p.m. Following the adjournment, there will be an evening meeting with guest speaker, Dr. Bo Beaulieu, Director, Southern Rural Development Center, who will provide highlights on Rural Development. On Wednesday, October 31, 2007, the Board Meeting will reconvene at 8:30 a.m. with a final session to discuss Strategic Plans for the Board. The Advisory Board Meeting will adjourn by 9:30 a.m. Written comments by attendees or other interested stakeholders will be welcomed for the public record before and up to two weeks following the Board meeting (by close of business Wednesday, November 14, 2007). All statements will become a part of the official record of the National Agricultural Research, Extension, Education, and Economics Advisory Board and will be kept on file for public review in the Research, Extension, Education, and Economics Advisory Board Office.

Done at Washington, DC this 10th day of October, 2007.
Gale Buchanan,
Under Secretary, Research, Education, and Economics.

[FR Doc. E7-20324 Filed 10-15-07; 8:45 am]

BILLING CODE 3410-22-P